DEPARTMENT OF ENERGY

Federal Energy Regulatory Commission

[Project No. 13328-000]

Cordova Electric Cooperative, Inc.; Notice of Preliminary Permit Application Accepted for Filing and Soliciting Comments, Motions To Intervene, and Competing Applications

February 3, 2009.

Cordova Electric Cooperative, Inc. filed an application on November 10, 2008, pursuant to section 4(f) of the Federal Power Act, proposing to study the feasibility of the Snyder Falls Creek Hydroelectric Project, which would be located near the town of Cordova on Snyder Falls Creek in Section 16, T14S, R3W of the Copper River Meridian, Alaska. The project would be located on Chugach National Forest Lands administered by the U.S Forest Service.

The proposed Snyder Falls Creek Hydroelectric Project would connect with the transmission facilities of the existing Humpback Creek Project, FERC No. 8889, and would consist of: (1) A proposed concrete gravity dam ranging from 100-foot-high to 150-foot-high impounding a reservoir at an elevation between 1414 and 1464 m.s.l. with a surface area ranging from 12.4 to 25.1 acres and a spillway, (2) a proposed intake structure, (3) a proposed 3,600 foot-long, two-foot diameter penstock, (4) a proposed powerhouse which will contain one generating unit with a total installed capacity of 3 MW, (5) a new 4.5-mile-long, 12.5 kV transmission line connecting to existing power lines, and (6) appurtenant facilities. The project would have an annual generation of between 10 and 13 gigawatts-hours, which would be sold to a local utility.

Applicant Contact: Mr. Clay Koplin, CEO, Cordova Electric Cooperative, Inc., Post Office Box 20, Cordova, AK 99574; phone: (907) 424-5555. FERC Contact: Tom Papsidero, (202) 502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13328) in the docket number field to access the document. For assistance, call toll-free 1-866-208-3372.

Kimberly D. Bose,
Secretary.

[FR Doc. E9-2687 Filed 2-9-09; 8:45 am]

BILLING CODE 6717-01-P